DEPARTMENT OF COMMERCE

International Trade Administration

[C-570-946]

Pre-Stressed Concrete Steel Wire Strand from the People's Republic of China: Alignment of Final Countervailing Duty Determination with Final Antidumping Duty Determination

AGENCY: Import Administration, International Trade Administration, Department of Commerce.

SUMMARY: The Department of Commerce (the Department) is aligning the final determination in the countervailing duty investigation of pre-stressed concrete steel wire strand (PC Strand) from the People's Republic of China (PRC) with the final determination in the companion antidumping duty investigation.

Effective Date: November 19, 2009.

FOR FURTHER INFORMATION CONTACT: Jolanta Lawska, AD/CVD Operations, Office 3, Import Administration, U.S. Department of Commerce, Room 4014, 14th Street and Constitution Avenue, NW, Washington, DC 20230; telephone: (202) 482-8362.

SUPPLEMENTARY INFORMATION:

Background

On June 23, 2009, the Department initiated the countervailing and antidumping duty investigations on PC Strand from the PRC. See Pre-stressed Concrete Steel Wire Strand from the People's Republic of China: Initiation of Countervailing Duty Investigation, 74 FR 29670 (June 23, 2009), and accompanying Initiation Checklist,¹ and Pre-stressed Concrete Steel Wire Strand From the People's Republic of China: Initiation of Antidumping Duty Investigation, 74 FR 29665, (June 23, 2009). The countervailing and antidumping duty investigations have the same scope with regard to the subject merchandise covered. On November 2, 2009, the Department published the preliminary affirmative countervailing duty determination pertaining to PC strand from the PRC. See Pre-stressed Concrete Steel Wire Strand from the People's Republic of China: Preliminary Affirmative Countervailing Duty Determination, 74 FR 56576 (November 2, 2009). On October 29, 2009, the petitioners submitted a letter, pursuant to 19 CFR 351.210(b)(4), requesting alignment of the final countervailing duty determination with the final determination in the companion antidumping duty investigation of PC strand from the PRC.

¹ A public version of this and all public Departmental memoranda is on file in the Central Records Unit (CRU), room 1117 in the main building of the Commerce Department.

Therefore, in accordance with section 705(a)(1) of the Tariff Act of 1930, as amended (the Act), and 19 CFR 351.210(b)(4), we are aligning the final countervailing duty determination on PC Strand from the PRC with the final determination in the companion antidumping duty investigation of PC Strand from the PRC. The final countervailing duty determination will be issued on the same date as the final antidumping duty determination currently scheduled for March 8, 2010.

This notice is issued and published pursuant to section 705(a)(1) of the Act.

Dated: November 13, 2009.
Ronald K. Lorentzen,
Acting Assistant Secretary for Import Administration.

[FR Doc. E9-27837 Filed 11-18-09; 8:45 am]

BILLING CODE 3510-DS-S